DEPARTMENT OF HEALTH AND HUMAN SERVICES

National Institutes of Health

National Institute of Environmental Health Sciences; Notice of Meetings

Pursuant to section 10(d) of the Federal Advisory Committee Act, as amended, notice is hereby given of meetings of the National Advisory Environmental Health Sciences Council.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Advisory Environmental Health Sciences Council.

Date: June 4-5, 2019.

Closed: June 4, 2019, 8:30 a.m. to 10:45 a.m.

Agenda: To review and evaluate grant applications.

Place: Nat. Inst. of Environmental Health Sciences, Building 101, Rodbell Auditorium, 111 T.W. Alexander Drive, Research Triangle Park, NC 27709.

Open: June 4, 2019, 11:00 a.m. to 5:00 p.m.

Agenda: Discussion of program policies and issues.

Place: Nat. Inst. of Environmental Health Sciences, Building 101, Rodbell Auditorium, 111 T.W. Alexander Drive, Research Triangle Park, NC 27709.

Open: June 5, 2019, 8:30 a.m. to 12:00 p.m.

Agenda: Discussion of program policies and issues.

Place: Nat. Inst. of Environmental Health Sciences, Building 101, Rodbell Auditorium, 111 T.W. Alexander Drive, Research Triangle Park, NC 27709.

Contact Person: Gwen W. Collman, Ph.D., Director, Division of Extramural Research & Training, National Institutes of Health, Nat. Inst. of Environmental Health Sciences, 615 Davis Dr., KEY615/3112, Research Triangle Park, NC 27709, (984) 287-3249, collman@niehs.nih.gov.

Name of Committee: National Advisory Environmental Health Sciences Council.

Date: September 10-11, 2019.

Closed: September 10, 2019, 8:30 a.m. to 10:45 a.m.

Agenda: To review and evaluate grant applications.

Place: NIEHS/National Institutes of Health, Building, U.S. Environmental Protection Agency, Conference Room 111, 109 TW Alexander Drive, Research Triangle Park, NC 27709.

Open: September 10, 2019, 11:00 a.m. to 5:00 p.m.

Agenda: Discussion of program policies and issues.

Place: NIEHS/National Institutes of Health, Building, U.S. Environmental Protection Agency, Conference Room 111, 109 TW Alexander Drive, Research Triangle Park, NC 27709.

Open: September 11, 2019, 8:30 a.m. to 12:00 p.m.

Agenda: Discussion of program policies and issues.

Place: NIEHS/National Institutes of Health, Building, U.S. Environmental Protection Agency, Conference Room 111, 109 TW Alexander Drive, Research Triangle Park, NC 27709.

Contact Person: Gwen W. Collman, Ph.D., Director, Division of Extramural Research & Training, National Institutes of Health, Nat. Inst. of Environmental Health Sciences, 615 Davis Dr., KEY615/3112, Research Triangle Park, NC 27709 (984) 287-3249, collman@niehs.nih.gov.

Any interested person may file written comments with the committee by forwarding the statement to the Contact Person listed on this notice. The statement should include the name, address, telephone number and when applicable, the business or professional affiliation of the interested person.

Information is also available on the Institute's/Center's home page: https://www.niehs.nih.gov/about/boards/naehsc/index.cfm, where an agenda and any additional information for the meeting will be posted when available.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: February 11, 2019.
Natasha M. Copeland,
Program Analyst, Office of Federal Advisory Committee Policy.

[FR Doc. 2019-02430 Filed 2-14-19; 8:45 am]

BILLING CODE 4140-01-P